DEPARTMENT OF COMMERCE

National Institute of Standards and Technology

Change of Publication Manner for Invention Licenses

AGENCY: National Institute of Standards and Technology, Department of Commerce.

ACTION: Notice.

SUMMARY: Currently, the National Institute of Standards and Technology (NIST) publishes notices of prospective exclusive, co-exclusive or partially exclusive domestic or foreign licenses of Government owned inventions in the Federal Register. NIST is announcing that it will begin publishing such notices at FEDBIZOPPS.GOV (https://www.fbo.gov/), providing opportunity for filing written objections within at least a 15-day period.

ADDRESSES: Questions related to this notice may be submitted to NIST, Technology Partnerships Office, 100 Bureau Drive, Stop 2200, Gaithersburg, MD 20899, or emailed to donald.archer@nist.gov.

FOR FURTHER INFORMATION CONTACT: Paul Zielinski, NIST Technology Partnerships Office, 100 Bureau Drive, Stop 2200, Gaithersburg, MD 20899; by email at paul.zielinski@nist.gov, or by phone at 301-975-2573.

SUPPLEMENTARY INFORMATION: Pursuant to 37 CFR 404.7(a)(1)(i), an exclusive, co-exclusive or partially exclusive domestic license, and, pursuant to 37 CFR 404.7(b)(1)(i), an exclusive, co-exclusive or partially exclusive foreign license, may be granted on Government owned inventions only if notice of a prospective license has been published in the Federal Register or other appropriate manner, providing opportunity for filing written objections within at least a 15-day period.

NIST provides notice that it will publish future notices of prospective exclusive, co-exclusive or partially exclusive domestic or foreign licenses in FEDBIZOPPS.GOV (https://www.fbo.gov/), providing opportunity for filing written objections within at least a 15-day period.

Authority: 35 U.S.C. 200 et seq.

Phillip Singerman,
Associate Director for Innovation and Industry Services.

[FR Doc. 2018-18551 Filed 8-27-18; 8:45 am]

BILLING CODE 3510-13-P